DEPARTMENT OF LABOR

Office of the Secretary

Proposed Collection of Information; Comment Request

ACTION: Notice of an Opportunity for Public Comment

ACTION: Notice; correction.

SUMMARY: The Department of Labor, Office of the Secretary published a notice in the Federal Register. Proposed Collection of Information; Comment Request. The Department is issuing a correction of the comment date as this should have been published as a 60 day notice.

Correction

This is to correct the comment date in the Federal Register of October 20, 2008, Vol. 73, No. 203 on page 62319, in section marked Dates, to read:

DATES: Written comments must be submitted to the office listed in the ADDRESSES section of this notice on or before December 19, 2008.

Signed at Washington, DC, this 29th day of October 2008.
Edward C. Hugler,
Deputy Assistant Secretary for Administration and Management.

[FR Doc. E8-26226 Filed 11-3-08; 8:45 am]

BILLING CODE 4510-23-P